DEPARTMENT OF ENERGY

Federal Energy Regulatory Commission

[Docket No. IS12-214-000]

Dixie Pipeline Company LLC; Notice of Technical Conference

Take notice that the Commission will convene a technical conference on Wednesday, May 30, 2012, at 9:00 a.m. (EDT), in a room to be designated at the offices of the Federal Energy Regulatory Commission, 888 First Street NE., Washington DC 20426.

The technical conference is being held pursuant to the Commission's April 27, 2012 order addressing Dixie's FERC Tariff No. 6.1.0.¹ The technical conference will address the issues raised by the protesters in the proceeding and the issues discussed by the Commission in P 19 of the April 27, 2012 order concerning the effect of Dixie's proposed new butane/isobutane service on its overall system operations.

¹ Dixie Pipeline Company LLC, 139 FERC ¶61,073 (2012).

FERC conferences are accessible under section 508 of the Rehabilitation Act of 1973. For accessibility accommodations please send an email to accessibility@ferc.gov or call toll free (866) 208-3372 (voice) or 202-502-8659 (TTY), or send a fax to 202-208-2106 with the required accommodations.

All interested persons are permitted to attend. For further information please contact David Faerberg at (202) 502-8275 or email david.faerberg@ferc.gov.

Dated: May 7, 2012.
Kimberly D. Bose,
Secretary.

[FR Doc. 2012-11574 Filed 5-11-12; 8:45 am]

BILLING CODE 6717-01-P